DEPARTMENT OF DEFENSE

Office of the Secretary

[Docket ID: DOD-2010-OS-0030]

Privacy Act of 1974; System of Records

AGENCY: Office of the Secretary, DOD.

ACTION: Notice to add a system of records.

SUMMARY: The Office of the Secretary of Defense is proposing to add a system of records notice to its inventory of record systems subject to the Privacy Act of 1974, (5 U.S.C. 552a), as amended.

DATES: This action will be effective without further notice on April 23, 2010 unless comments are received that would result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the Chief, OSD/JS Privacy Office, Freedom of Information Directorate, Washington Headquarters Services, 1155 Defense Pentagon, Washington DC 20301-1155.

The proposed system report, as required by 5 U.S.C. 552a(r) of the Privacy Act of 1974, as amended, was submitted on March 12, 2010, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996; 61 FR 6427).

Dated: March 18, 2010.
Mitchell S. Bryman,
Alternate OSD Federal Register Liaison Officer, Department of Defense.

DPR 39 DoD

SYSTEM NAME:

DoD Personnel Accountability and Assessment System.

SYSTEM LOCATION:

Decentralized locations include the DoD Components staff and field operating agencies, major commands, installations, and activities.

CATEGORIES OF INDIVIDUALS COVERED BY THE SYSTEM:

DoD-affiliated personnel to include: military Service members (active duty, Guard/Reserve and the Coast Guard personnel when operating as a Military Service with the Navy), civilian employees (including non-appropriated fund employees), family members of the above and contractors working at DoD facilities.

CATEGORIES OF RECORDS IN THE SYSTEM:

Subject individual's full name, Social Security Number (SSN), DoD affiliation, date of birth, duty station address and telephone numbers, home and email addresses, and telephone numbers (to include cell number). Emergency Data information may include spouse's name and address; children's names, dates of birth, address and telephone number; parents names, addresses and telephone numbers; or emergency contact's name and address.

The Military Departments may request information to assess the needs of affiliated personnel. Such information may include a needs assessment survey to help determine any specific emergent needs; the date of the assessment; the type of event and category classification; and a Federal Emergency Management Agency (FEMA) number, if issued.

AUTHORITY FOR MAINTENANCE OF THE SYSTEM:

10 U.S.C. 136, Under Secretary of Defense for Personnel and Readiness; 10 U.S.C. 3013, Secretary of the Army; 10 U.S.C. 5013, Secretary of the Navy; 10 U.S.C. 8013, Secretary of the Air Force; DoD Instruction 3001.02, Personnel Accountability in Conjunction with Natural or Manmade Disasters; Air Force Instruction 10-218, Personnel Accountability in conjunction with Natural Disasters or National Emergencies; Army Regulation 500-3, U.S. Army Continuity of Operations Program Policy and Planning; and E.O. 9397 (SSN), as amended.

PURPOSE(S):

To accomplish personnel accountability for DoD affiliated personnel in a natural or man-made disaster or when directed by the Secretary of Defense. This system will document the individual's check-in data.

The Military Departments may also collect information about Service members and their dependents for needs assessment as a result of the natural or man-made disaster.

The DoD Components may also use accountability data for accountability and assessment reporting exercises.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside DoD as a routine use pursuant to 5 U.S.C. 552a(b)(3) as follows:

To Federal, State, or local governments during actual emergencies, exercises or continuity of operations tests for the purpose of responding to emergency situations or to allow emergency service personnel to locate the individual(s).

To Federal Emergency Management Agency to facilitate recovery efforts when natural or manmade disasters occur.

The DoD “Blanket Routine Uses” also apply to this system of records.

POLICIES AND PRACTICES FOR STORING, RETRIEVING, ACCESSING, RETAINING, AND DISPOSING OF RECORDS IN THE SYSTEM:

STORAGE:

Paper records in file folders and on electronic storage media.

RETRIEVABILITY:

Individual's name, Social Security Number (SSN), or date of birth.

SAFEGUARDS:

DoD Components will ensure that paper and electronic records collected and used are maintained in controlled areas accessible only to authorized personnel. Physical security differs from site to site, but the automated records must be maintained in controlled areas accessible only by authorized personnel. Access to computerized data is restricted by use of common access cards (CACs) and passwords. These are “For Official Use Only” records and are maintained in controlled facilities that employ physical restrictions and safeguards such as security guards, identification badges, key cards, and locks.

RETENTION AND DISPOSAL:

Disposition pending. Until the National Archives and Records Administration has approved the retention and disposal of these records, treat them as permanent.

SYSTEM MANAGER AND ADDRESS:

Senior Program Manager for Casualty and Mortuary Affairs, Office of the Under Secretary of Defense (Personnel & Readiness), Deputy Under Secretary of Defense for Military Community and Family Policy, 4000 Defense Pentagon, Washington, DC 20301-4000.

The Privacy Act responsibilities concerning access, amendment, and disclosure of the records within this system notice have been delegated to the employing DoD components.

NOTIFICATION PROCEDURE:

Individuals seeking to determine whether this system of records contains information about themselves should address written inquiries to their employing DoD Component.

The request should include the individual's full name, Social Security Number (SSN), home address, and be signed.

RECORD ACCESS PROCEDURES:

Individuals seeking access to records about themselves contained in this system of records should address written inquiries to their employing DoD Component.

The request should include the individual's full name, Social Security Number (SSN), home address, and be signed.

CONTESTING RECORD PROCEDURES:

Each DoD Component has its own rules for accessing records and for contesting contents and appealing initial agency determinations and can be found in component Privacy Instructions and Regulations; the appropriate part of 32 CFR.

RECORD SOURCE CATEGORIES:

Individual and Defense Manpower Data Center (DEERS database).

EXEMPTIONS:

None.

[FR Doc. 2010-6456 Filed 3-23-10; 8:45 am]

BILLING CODE 5001-06-P